NATIONAL SCIENCE FOUNDATION

Sunshine Act Meeting Notice

Agency Holding Meeting: National Science Foundation, National Science Board and its Subdivisions.

DATE AND TIME: March 12, 2003: 8 a.m.-5:30 p.m., Open Session. Concurrent Sessions: 10 a.m.-10:30 a.m., Closed Session; 2 p.m.-3 p.m., Closed Session.

March 13, 2003: 8:30 a.m.-3 p.m., Open Session. Concurrent Session: 11:15 a.m.-11:45 a.m., Closed Session.

Place: The National Science Foundation, 4201 Wilson Boulevard, Arlington, VA 22230, http://www.nsf.gov/nsb.

CONTACT PERSON FOR INFORMATION: NSF Information Center, (703) 292-5111.

Status: Part of this meeting will be closed to the public. Part of this meeting will be open to the public.

Matters to be Considered

Wednesday, March 12, 2003

Open

Task Force on National Workforce Policy for S&E (8 a.m.-10 a.m.), Room 1295

• Discussion of the draft NWP report

Task Force on S&E Infrastructure (8:30 a.m.-10 a.m.), Room 1235

• Discussion on the final INF report (NSB-02-190)

• Discussion of Draft Communication/Dissemination Plan

Committee on Strategy & Budget (10:30 a.m.-12 Noon), Room 1235

• Review of draft NSF GPRA Strategic Plan, FY 2003-2008

• Discussion of History and Impacts of Funds for Director's Initiatives

• Planning for Implementation of Section 22, NSF Authorization Act

• Review of Contract Activities Examining NSF Business & Management Practices

Subcommittee on S&E Indicators (10 a.m.-11 a.m.), Room 1295

• S&E Indicators 2004—State S&E Chapter

• Final NSB Reviewer Assignments

Executive Committee (2 p.m.-2:20 p.m.), Room 1295

• Director's Report

Committee on Education & Human Resources (3 p.m.-5:30 p.m.), Room 1235

• Agenda for the “Broadening Participation” Workshop

• Reports on NSF K-12, Undergraduate and Graduate Programs

• Report from the Subcommittee on S&E Indicators

• Focus on the Future: Mathematics Education Research

• Update on Meeting of the Mathematics Education Portfolio Review Panel

• Report from the Task Force on NWP

• Information Item: NSF Partnership with DOD for Funding REU Sites

Closed

Committee on Strategy and Budget (10 a.m.-10:30 a.m.), Room 1235

• Discussion of the FY 2005 NSF Budget

Executive Committee (2:20 p.m.-3 p.m.), Room 1295

• Specific Personnel Matters

• Future NSF Budgets

Vannevar Bush Award Committee (2 p.m.-3 p.m.), Room 1240

• Discussion of Candidates

Thursday, March 13, 2003

Closed

Plenary session of the Board (11:15 a.m.-11:45 a.m.), Room 1235

• Honorary Awards Recommendations

Open

Committee on Audit & Oversight (8:30a.m.-11 a.m.), Room 1295

• OIG Updates:

—Performance Plan

—Results of Audit Peer Review

—FY 03 and FY 04 OIG Budgets

• CFO Update:

—FY 03 and FY 04 Budgets

—Facilities Management

—Cost Sharing Implementation Update

• CIO Update: Security

• Contact Activity Examining NSF Business & Management Practices

Committee on Programs & Plans (8:30 a.m.-11 a.m.), Room 1235

• High Performance Computing and Computing Infrastructure

• INF Task Force Report

• Long-Lived Data Collections

• Information Item: Status of Support of U.S. Participation in the Integrated Ocean Drilling Program

• Update on NSB Environment Report

• Facilities Management & Oversight Guide: Status & Public Comment

• CPP Issues:

—NSF Authorization Act, Section 14

—Proposal for NSB Meetings Outside Washington

Plenary session of the Board (12:30 p.m.-3 p.m.), Room 1235

• Science Presentations

• Minutes

• Closed Session Items for May 2003

• Chairman's Report

• Director's Report

• Report on the Retreat

• Committee Reports

Gerard Glaser,
Executive Officer, NSB.

[FR Doc. 03-5350 Filed 3-3-03; 3:19 pm]

BILLING CODE 7555-01-M